DEPARTMENT OF ENERGY

Federal Energy Regulatory Commission

[Docket No. RP13-1015-000]

Texas Eastern Transmission, LP; Notice of Technical Conference

Take notice that the Commission Staff will convene a technical conference in the above-referenced proceeding on Thursday, September 12, 2013, at 10:00 a.m. (Eastern Standard Time), in a room to be designated at the offices of the Federal Energy Regulatory Commission, 888 First Street NE., Washington, DC 20426.

At the technical conference, the Commission Staff and the parties to the proceeding can discuss all of the issues raised by Texas Eastern Transmission, LP's (Texas Eastern) filing. In particular, as discussed in the Order Accepting and Suspending Tariff Record and Establishing Technical Conference Proceedings ¹ in this docket, Texas Eastern should be prepared to address the concerns raised by the parties in this proceeding and, if necessary, to provide additional technical, engineering and operational support for its proposal, including support for its assertion that its proposal is not barred by the 2010 Settlement. Consistent with the Commission's Natural Gas Interchangeability Policy Statement, Texas Eastern should be prepared to explain how its proposal differs from the Natural Gas Council Plus interim guidelines.² In addition, any party proposing alternatives to Texas Eastern's proposal should be prepared to support its position with adequate technical, engineering and operational information.

¹ Texas Eastern Transmission, LP, 144 FERC ¶ 61,082, at P 19 (2013).

² Policy Statement on Provisions Governing Natural Gas Quality and Interchangeability in Interstate Natural Gas Pipeline Company Tariffs, 115 FERC ¶ 61,325, at PP 34, 37 (2006).

FERC conferences are accessible under section 508 of the Rehabilitation Act of 1973. For accessibility accommodations please send an email to accessibility@ferc.gov or call toll free (866) 208-3372 (voice) or (202) 502-8659 (TTY), or send a fax to (202) 208-2106 with the required accommodations.

All interested persons are permitted to attend. For further information please contact Oscar Santillana at (202) 502-6392 or email Oscar.Santillana@ferc.gov, and David Maranville at (202) 502-6351 or email David.Maranville@ferc.gov.

Dated: August 20, 2013.
Kimberly D. Bose,
Secretary.

[FR Doc. 2013-20925 Filed 8-27-13; 8:45 am]

BILLING CODE 6717-01-P